DEPARTMENT OF TRANSPORTATION

Federal Highway Administration

Environmental Assessment: Jackson and Jennings Counties, IN

AGENCY: Federal Highway Administration (FHWA), DOT.

ACTION: Notice of Intent (NOI).

SUMMARY: The Federal Highway Administration (FHWA) is issuing this notice to advise the public that FHWA will prepare an Environmental Assessment (EA) to determine the need and feasibility of improvements to U.S. 50 in Jackson and Jennings Counties in Indiana. This project will adhere to the requirements of Section 6002 of SAFETEA-LU so that the steps completed during the EA process will not need to be revisited if the project is elevated to an Environmental Impact Statement (EIS) in the future. The U.S. 50 improvement corridor is approximately 18 miles in length, running from the western terminus at I-65, near Seymour in Jackson County, to the eastern terminus near the Jennings/Ripley County Line, east of North Vernon. The objectives of this study are to assess the need for and feasibility of improvements to the U.S. 50 corridor as well as other alternatives for improving mobility and alleviating congestion in the urban area boundary of North Vernon and in the general project vicinity.

DATES: Comments on the scope of the EA for the proposed project should be forwarded no later than July 30, 2007.

ADDRESSES: Address all comments concerning this notice to Carl D. Camacho, P.E., Project Manager, Bernardin, Lochmueller & Associates, Inc. (BLA), 6125 South East Street (US 31 South), Indianapolis, IN 46227. He can be reached by telephone at (317) 222-3880 or by e-mail at ccamacho@blainc.com.

FOR FURTHER INFORMATION CONTACT: Larry Heil, Environmental Specialist, FHWA, at (317) 226-7480; or Steve Smith, Indiana Department of Transportation (INDOT) Project Manager, at (317) 232-5646.

SUPPLEMENTARY INFORMATION: The FHWA, in cooperation with INDOT, will prepare an EA to determine the need and feasibility of improvements to U.S. 50 in Jackson and Jennings Counties in Indiana. The U.S. 50 improvement corridor is approximately 18 miles in length, running from the western terminus at I-65, near Seymour in Jackson County, to the eastern terminus near the Jennings/Ripley County Line, east of North Vernon. Issues prompting this study include high through traffic volumes (especially trucks) on U.S. 50 through downtown North Vernon, high crash frequency along U.S. 50 from U.S. 31 to the east urban boundary of North Vernon, access to existing and potential commercial and industrial economic growth areas, statewide and regional transportation system mobility and development of the Muscatatuck Urban Training Center (MUTC) east of North Vernon near Butlerville. The objectives of this study are to assess the feasibility of improvements to the U.S. 50 corridor, as well as other alternatives, for improving mobility and alleviating congestion in the urban area boundary of North Vernon and in the general project vicinity. This study will conform to Indiana's Streamlined EIS Procedures and the new SAFETEA-LU Section 6002 requirements.

Environmental Issues: Possible environmental impacts include displacement of commercial and residential properties, increased noise in some areas, decreased noise in other areas, effects to historical properties or archaeological sites, viewshed impacts, impacts to water resources, wetlands, prime farmland, sensitive biological species and habitat, land use compatibility impacts and impacts to agricultural lands.

Alternatives: The EA will consider alternatives that include the No-Build (Do Nothing) Alternative as well as a full range of build alternatives ranging from transportation system management improvements to major capital investments on existing and new alignment.

Scoping and Comment: FHWA encourages broad participation in the EA process and review of the resulting environmental documents. Comments, questions, and suggestions related to the project and potential socioeconomic and environmental concerns are invited from all interested agencies and the public at large to ensure that the full range of issues related to the proposed action and all reasonable alternatives are considered and all significant issues are identified. These comments, questions, and suggestions should be forwarded to the address listed above.

Early Coordination Letters were sent to the appropriate Federal, State and local agencies on January 31, 2007, describing the proposed action. An invitation letter was sent to potential Participating Agencies inviting the agencies to be Participating Agencies in the study, encouraging agency comments and suggestions concerning the proposed project, and further defining the roles of Participating Agencies. Existing and future conditions and issues within the project area have been identified and presented to the public in a widely advertised Public Information Meeting held in North Vernon, Indiana, on Thursday, February 8, 2007. The draft purpose and need for the project has been developed and preliminary alternatives identified. The purpose and need and preliminary alternatives are currently available for public review and comment. A Public Information Meeting was held on June 26, 2007 and a Resource Agency Meeting was held on June 29, 2007. Agencies and the public will also have an opportunity to comment when the preliminary alternatives have been evaluated and screened and again upon identification of the preferred alternative(s).

Notices of availability for the purpose and need and identification of preliminary alternatives, evaluation and screening of preliminary alternatives, and identification of preferred alternative(s) are being provided through direct mail, e-mail, the project Web site at http://www.us50northvernon.org and other media. Notification is also being sent to Federal, State, local agencies, persons and organizations that submit comments or questions. Precise schedules and locations for public meetings will be announced in the local news media and the project Web site. Interested individuals and organizations may request to be included on the mailing list for distribution of meeting announcements and associated information.

(Catalog of Federal Domestic Assistance Program No. 20.205, Highway Planning and Construction. The regulations implementing Executive Order 12372 regarding intergovernmental consultation on Federal programs and activities apply to the program.)

Authority: 23 U.S.C. 315; 23 CFR 771.123; 49 CFR 1.48.

Issued on: June 25, 2007.
Robert F. Tally, Jr.,
Division Administrator, Indianapolis, Indiana.

[FR Doc. E7-12629 Filed 6-28-07; 8:45 am]

BILLING CODE 4910-22-P